DEPARTMENT OF HEALTH AND HUMAN SERVICES

Administration for Children and Families

Submission for OMB Review; Comment Request

Title: OCSE-396A: Financial Report; and OCSE-34A: Quarterly Report of Collections.

OMB No.: 0970-0181.

Description: Each State agency administering the Child support Enforcement Program under Title IV-D of the Social Security Act is required to provide information to the Office of Child Support Enforcement concerning its administrative expenditures and its receipt and disposition of child support payments from non-custodial parents. These quarterly reporting forms enable each State to provide that information, which is used to compute both the quarterly grants awarded to each State and the annual incentive payments earned by each State. This information is also included in a published annual statistical and financial report, available to the general public.

Comments sent to the Office of Child Support Enforcement, both directly and in response to the Federal Register Notice published June 10, 2002 (67 FR 39727), et seq.), provided many useful recommendations to update and correct these financial reporting forms.

Based on these comments, these forms have been revised to conform with recent changes in Federal law and to enable State agencies to more accurately report financial data. In particular, State agencies will now be able to report amounts expended on computer systems in greater detail, and will be able to better differentiate the distribution of child support payments received on behalf of children in foster care facilities or who are current or former recipients of Medicaid payments. State agencies will now be able to identify those child support collections which, although undistributed, will be disbursed shortly to families and those collections that require further review before disbursement.

Respondents: State agencies administering the Child Support Enforcement Program.

Annual Burden Estimates
Instrument | Number of respondents | Number of responses per respondent | Average burden hours per response | Total burden hours
OCSE-396A | 54 | 4 | 8 | 1,728
OCSE-34A | 54 | 4 | 8 | 1,728

Estimated Total Annual Burden Hours: 3,456.

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: April 22, 2003.
Robert Sargis,
Reports Clearance Officer.

[FR Doc. 03-10456 Filed 4-28-03; 8:45 am]

BILLING CODE 4184-01-M